DEPARTMENT OF HOUSING AND URBAN DEVELOPMENT

[Docket No. FR-7106-N-02]

Privacy Act of 1974; System of Records

AGENCY: Government National Mortgage Association, HUD.

ACTION: Notice of a modified system of records.

SUMMARY: Pursuant to the provisions of the Privacy Act of 1974, as amended, the Department of the Housing and Urban Development (HUD), Government National Mortgage Association (GNMA) is modifying a system of records, “Ginnie Mae Master Subservicer System” (MSS). This system of records is being revised to make clarifying changes and general updates to the remaining sections to accurately reflect management of the system of records in accordance with the Office of Management and Budget (OMB) Circular A108, Federal Agency Responsibilities for Review, Reporting, and Publication under the Privacy Act.

DATES: Comments will be accepted on or before June 9, 2025. This SORN becomes effective immediately, while the routine uses become effective after the comment period immediately upon publication except for the routine uses, which will become effective on the date following the end of the comment period unless comments are received which result in a contrary determination.

ADDRESSES: You may submit comments, identified by docket number or by one of the following methods:

Federal e-Rulemaking Portal: http://www.regulations.gov. Follow the instructions provided on that site to submit comments electronically. Fax: 202-619-8365.

Email: privacy@hud.gov.

Mail: Attention: Privacy Office; LaDonne White, Chief Privacy Officer; The Executive Secretariat; 451 Seventh Street SW, Room 10139, Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White; 451 Seventh Street SW, Room 10139, Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD is publishing this revised notice to include additional detail relating to Ginnie Mae's use of the system of records and its data for market liquidity initiatives. Ginnie Mae has made updates to the SORN to ensure that the template is fully compliant with the agency's requirements. Furthermore, this modification is making clarifying changes within: System Location, System Manager, Record Authority for Maintenance of the System, Purpose of the System, Routine Uses of Records Maintained in the System, Retrieval of Records, and Retention and Disposal of Records, and Ginne Mae has modified the language of the `Routine Use' section to provide clear and concise information of the use and collection of the data. The modifications to MSS SORN include these changes:

• “System location” has been updated and brings the information current.

• “System Manager” has been updated and brings the information current.

• “Authority for maintenance” has been updated to include the authority for Social Security Number Collection.

• “Purpose” has been updated to reflect current information.

• “Routine Uses of Records Maintained in the System, Including Categories of Uses and Purpose of Such Uses” is updated to include the applicable routine uses.

SYSTEM NAME AND NUMBER:

Ginnie Mae Master Subservicer System (MSS); HUD/GNMA-02.

SECURITY CLASSIFICATION:

Unclassified.

SYSTEM LOCATION:

Records are maintained at their respective Ginnie Mae Master Subservicer.

SYSTEM MANAGER(S):

System Managers are specified in Ginnie Mae's Master Subservicer contract(s): Ms. Adrianne Brown in the Carrington Group, and Ms. Jacqueline Taylor in the Selene Finance, both reside at 425 3rd Street, 5th Floor, Washington, DC 20024-1000.

AUTHORITY FOR MAINTENANCE OF THE SYSTEM:

Sec. 306(g), National Housing Act, 12 U.S.C. 1721(g). 42 U.S.C. 3543 Preventing Fraud and Abuse in HUD programs, and under 24 CFR part 200, subpart U and 24 CFR 203.35.

PURPOSES OF THE SYSTEM:

The information is used to perform a wide range of loan servicing and issuing functions. The data is maintained in a comprehensive loan servicing system that processes transactions relating to the servicing of home and project loans on behalf of Ginnie Mae. The primary purpose of this system of records is to capture borrower, loan, and pool-level data associated with defaulted Issuer portfolios. When Ginnie Mae defaults and extinguishes an issuer, one of Ginnie Mae's functions as guarantor of securities is to service the mortgage loans. This system of records serves as a central back-end repository, on Ginnie Mae's behalf, to house borrower, loan origination, and servicing data associated those defaulted issuer portfolios. Additionally, Ginnie Mae intends to leverage the Master Subservicer System to source data required to support market liquidity initiatives related to its defaulted issuer portfolio.

CATEGORIES OF INDIVIDUALS COVERED BY THE SYSTEM:

Borrowers and co-borrowers.

CATEGORIES OF RECORDS IN THE SYSTEM:

May include, but not limited to: Borrower's name, Social Security Number, Date of Birth, co-borrowers' name(s), property address, phone number, email address, income and other financial data; the Federal Housing Administration (FHA), Department of Veterans Affairs (VA), Department of Agriculture Rural Housing Service (RHS), or HUD Office of Public and Indian Housing (PIH) loan number.

RECORD SOURCE CATEGORIES:

Records are established using information received from borrowers and from legal instruments related to borrowers' loans (i.e., mortgages, notes, and deeds).

ROUTINE USES OF RECORDS MAINTAINED IN THE SYSTEM, INCLUDING CATEGORIES OF USERS AND PURPOSES OF SUCH USES:

In

(a) To the U.S. Treasury—for disbursements, adjustments, collection services.

(b) To the Internal Revenue Service and to state and local governments—for reporting payments for mortgage interest, for reporting of discharge indebtedness and real estate taxes.

(c) To credit bureaus and other entities for credit reporting purposes.

(d) To employers to effect wage garnishment.

(e) To third party purchasers or potential purchasers in connection with asset sale transactions.

(f) To the National Archives and Records Administration, Office of Government Information Services (OGIS), to the extent necessary to fulfill its responsibilities in 5 U.S.C. 552(h), to review administrative agency policies, procedures and compliance with the Freedom of Information Act (FOIA), and to facilitate OGIS' offering of mediation services to resolve disputes between persons making FOIA requests and administrative agencies.

(g) To a congressional office from the record of an individual in response to an inquiry from the congressional office made at the request of the individual to whom the records pertain.

(h) To contractors, grantees, experts, consultants, Federal agencies, and non-Federal entities, including, but not limited to, State and local governments and other research institutions or their parties, and entities and their agents with whom HUD has a contract, service agreement, grant, cooperative agreement, or other agreement for the purposes of statistical analysis and research in support of program operations, management, performance monitoring, evaluation, risk management, and policy development, to otherwise support the Department's mission, or for other research and statistical purposes not otherwise prohibited by law or regulation. Records under this routine use may not be used in whole or in part to make decisions that affect the rights, benefits, or privileges of specific individuals. The results of the matched information may not be disclosed in identifiable form.

(i) To contractors, grantees, experts, consultants and their agents, or others performing or working under a contract, service, grant, cooperative agreement, or other agreement with HUD, when necessary to accomplish an agency function related to a system of records. Disclosure requirements are limited to only those data elements considered relevant to accomplishing an agency function.

(j) To contractors, experts, and consultants with whom HUD has a contract, service agreement, or other assignment of the Department, when necessary to utilize relevant data for the purpose of testing new technology and systems designed to enhance program operations and performance.

(k) To appropriate agencies, entities, and persons when: (1) HUD suspects or has confirmed that there has been a breach of the system of records; (2) HUD has determined that as a result of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm.

(l) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

(m) To appropriate Federal, State, local, tribal, or other governmental agencies or multilateral governmental organizations responsible for investigating or prosecuting the violations of, or for enforcing or implementing, a statute, rule, regulation, order, or license, where HUD determines that the information would assist in the enforcement of civil or criminal laws and when such records, either alone or in conjunction with other information, indicate a violation or potential violation of law.

(n) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(o) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

In addition to the routine uses described above, HUD provides notice pursuant to 31 U.S.C. 3711(e) that information contained in this system of records may also be disclosed to a consumer reporting agency when trying to collect a claim owed on behalf of the government.

POLICIES AND PRACTICES FOR STORAGE OF RECORDS:

Electronic and paper records.

POLICIES AND PRACTICES FOR RETRIEVAL OF RECORDS:

Records are retrieved by mortgagor/borrower name, Social Security Number, loan number, property address.

POLICIES AND PRACTICIES FOR RETENTION AND DISPOSAL OF RECORDS:

Temporary. Destroy upon verification of successful creation of the final document or file. Or when no longer needed for business use, whichever is later. In accordance with HUD records disposition schedule 2225.6, Appendix 20. Records are destroyed upon successful creation of the final document or file, or when no longer needed for business use, whichever is later. Backup and recovery digital media will be destroyed or otherwise rendered irrecoverable per NIST SP 800-88 “Guidelines for Media Sanitization.” GRS 5.2, Item 20, DAA-GRS2017-0003-0002.

ADMINISTRATIVE, TECHNICAL, AND PHYSICAL SAFEGUARDS:

Administrative Safeguards: All users must agree to the systems “Rules of Behavior” which specify handling of personal information and any physical records.

Technical Safeguards: Controls for the system include, but are not limited to, username identification, password protection, multi-factor authentication, firewalls, virtual private network, encryption, and is limited to authorized users.

Physical Safeguards: Controls to secure the data and protect paper records are maintained and locked in file cabinets. The original collateral documents (hard copy) are stored at the contractor's office site for all open loans and the closed documents are stored at a secured offsite document storage facility. All hard copy files are stored within a secured room within the contractor's secured office suite when not in use. Background screening, limited authorizations, and access, with access limited to authorized personnel and technical restraints employed regarding accessing the records, access to automated systems by authorized users by username and passwords.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

Docket No. FR-5386-N-07, 75 FR 44803, July 29, 2010.

LaDonne L. White,
Chief Privacy Officer, Office of Administration.

[FR Doc. 2025-08135 Filed 5-8-25; 8:45 am]

BILLING CODE P